DEPARTMENT OF JUSTICE

Foreign Claims Settlement Commission

Commencement of Claims Programs

AGENCY: Foreign Claims Settlement Commission of the United States.

ACTION: Notice.

SUMMARY: This notice announces the commencement by the Foreign Claims Settlement Commission (“Commission”) of a program for adjudication of a certain category of claims of United States nationals against the Government of Libya, as defined below, which were settled under the “Claims Settlement Agreement Between the United States of America and the Great Socialist People's Libyan Arab Jamahiriya” (“Claims Settlement Agreement”) effective August 14, 2008.

DATES: These claims can now be filed with the Commission and the deadline for filing will be July 23, 2009. The deadline for completion of this claims adjudication program will be March 23, 2010.

FOR FURTHER INFORMATION CONTACT: Jaleh F. Barrett, Chief Counsel, Foreign Claims Settlement Commission of the United States, 600 E Street, NW., Room 6002, Washington, DC 20579, Tel. (202) 616-6975, FAX (202) 616-6993.

Notice of Commencement of Claims Adjudication Program, and of Program Completion Date

Pursuant to the authority conferred upon the Secretary of State and the Commission under subsection 4(a)(1)(C) of Title I of the International Claims Settlement Act of 1949 (Pub. L. 455, 81st Cong., approved March 10, 1950, as amended by Pub. L. 105-277, approved October 21, 1998 (22 U.S.C. 1623(a)(1)(C))), the Foreign Claims Settlement Commission hereby gives notice of the commencement of a program for adjudication of a category of claims of United States nationals against the Government of Libya. These claims, which have been referred to the Commission by the Department of State by letter dated December 11, 2008, are defined as:

Claims of U.S. nationals for physical injury, provided that

(1) The claim meets the standard for physical injury adopted by the Commission;

(2) The claim is set forth as a claim for injury other than emotional distress alone by a named party in the Pending Litigation; and

(3) The Pending Litigation against Libya and its agencies or instrumentalities; officials, employees, and agents of Libya or Libya's agencies or instrumentalities; and any Libyan national (including natural and juridical persons) has been dismissed before the claim is submitted to the Commission.

The “Pending Litigation” referenced above is composed of the following cases:

Baker v. Socialist People's Libyan Arab Jamahiriya (D.D.C.) 03-cv-749

Pflug v. Socialist People's Libyan Arab Jamahiriya (D.D.C.) 08-cv-505

Clay v. Socialist People's Libyan Arab Jamahiriya (D.D.C.) 06-cv-707

Estate of John Buonocore III v. Socialist Libyan Arab Jamahiriya (D.D.C) 06-cv-727

Simpson v. Socialist People's Libyan Arab Jamahiriya (D.D.C.) 08-cv-529

Franqui v. Socialist People's Libyan Arab Jamahiriya (D.D.C.) 06-cv-734

Harris v. Socialist People's Libyan Arab Jamahiriya (D.D.C.) 06-cv-732

Knowland v. Socialist People's Libyan Arab Jamahiriya (D.D.C.) 08-cv-1309

McDonald v. Socialist People's Arab Jamahiriya (D.D.C.) 06-cv-729

Patel v. Socialist People's Libyan Arab Jamahiriya (D.D.C.) 06-cv-626

Simpson v. Socialist People's Libyan Arab Jamahiriya (D.D.C.) 00-cv-1722

In conformity with the terms of the referral, the Commission will determine the claims in accordance with the provisions of 22 U.S.C. 1621 et seq., which comprises Title I of the International Claims Settlement Act of 1949, as amended. The Commission will then certify to the Secretary of the Treasury those claims that it finds to be valid, for payment out of the claims fund established under the Claims Settlement Agreement.

The Commission will administer this claims adjudication program in accordance with its regulations, which are published in Chapter V of Title 45, Code of Federal Regulations (45 CFR part 500 et seq.). In particular, attention is directed to subsection 500.3(a) of these regulations based on 22 U.S.C. 1623(f) which limits the amount of attorney's fees that may be charged for legal representation before the Commission. These regulations are also available over the Internet at http://www.gpoaccess.gov/cfr/index.html.

Approval has been obtained from the Office of Management and Budget for the collection of this information. Approval No. 1105-0088, expiration date 9/30/2009.

Mauricio J. Tamargo,
Chairman.

[FR Doc. E9-6194 Filed 3-20-09; 8:45 am]

BILLING CODE 4410-01-P